FEDERAL COMMUNICATIONS COMMISSION

[FR ID 248062]

Deletion of Item From September 26, 2024 Open Meeting

September 25, 2024.

The following items have been deleted from the list of items scheduled for consideration at the Thursday, September 26, 2024, Open Meeting. Item No. 2 was deleted by the Commission on Tuesday, September 24, 2024 and Item No.4 was adopted by the Commission on Tuesday, September 24, 2024. The items were previously listed in the Commission's Sunshine Notice on Thursday, September 19, 2024.

Item No. | Bureau | Subject
2 | Consumer & Governmental Affairs | Title: Advanced Methods to Target and Eliminate Unlawful Robocalls (CG Docket No. 17-59); Targeting and Eliminating Unlawful Text Messages (CG Docket No. 21-402).
|  | Summary: The Commission will consider a Report and Order that would bolster current FCC rules on blocking and robocall mitigation in key areas, including by expanding requirements to block calls based on reasonable do-not-originate lists and by creating new financial penalties for carriers who fail to protect consumers from illegal calls.
4 | Media | Title: Modifying Rules for FM Terrestrial Digital Audio Broadcasting Systems (MB Docket No. 22-405).
|  | Summary: The Commission will consider a Report and Order implementing a streamlined process for authorizing digital transmissions at different power levels on the upper and lower digital sideband in order to enhance digital FM radio coverage and prevent interference.

Federal Communications Commission.
Marlene Dortch,
Secretary.

[FR Doc. 2024-22581 Filed 10-1-24; 8:45 am]

BILLING CODE 6712-01-P